DEPARTMENT OF COMMERCE

National Oceanic and Atmospheric Administration

[I.D. 080102D]

Environmental Impact Statement; Public Scoping; Endangered and Threatened Species

AGENCY: National Marine Fisheries Service (NMFS), National Oceanic and Atmospheric Administration (NOAA), Commerce.

ACTION: Notice of intent to conduct public scoping and prepare an Environmental Impact Statement (EIS).

SUMMARY: Pursuant to the National Environmental Policy Act (NEPA), NMFS intends to gather the information necessary to prepare an EIS on a determination pursuant to the Endangered Species Act (ESA) related to a resource management plan (RMP) for harvest of Puget Sound chinook populations. NMFS is furnishing this notification to: advise other agencies and the public of its intent, and to obtain suggestions and information on the scope of issues to include in the EIS, specifically to assist NMFS in identifying the range of alternatives to include in the EIS analysis. In addition, NMFS will hold a scoping meeting (see ADDRESSES) to provide for public input into the range of alternatives and issues that the EIS should consider. NMFS is accepting written comments on the range of alternatives and issues it should consider for this EIS.

DATES: Written comments from all interested parties must be received at the appropriate address or fax number (see ADDRESSES), no later than 5 p.m. Pacific Standard Time on September 9, 2002. Written comments will also be accepted at a public scoping meeting held from 6:30-8:30 p.m., August 22, 2002, in Building 9 of the National Oceanic and Atmospheric Administration facility at Sand Point, 7600 Sand Point Way NE, Seattle, Washington. Each attendee will be asked for his/her photo identification and the reason for his/her visit by NMFS security at the facility entrance.

ADDRESSES: Comments and requests to be included on a mailing list of persons interested in the EIS should be sent to Susan Bishop, Puget Sound and Washington Coastal Harvest Management Team Leader, Sustainable Fisheries Division, National Marine Fisheries Service, 7600 Sand Point Way NE, Seattle, WA 98115-0070; telephone 206/526-4587; facsimile (fax) 206/526-6736. Comments will not be accepted if submitted via e-mail or the Internet.

As reference material, the RMP implemented in April 2001 under the ESA 4(d) Rule Limit 6, Puget Sound Comprehensive Chinook Management Plan: Harvest Management Component, is available on the Internet at http://www.nwifc.wa.gov/recovery/. NMFS’s evaluation and determination on the 2001 RMP is available at http://www.nwr.noaa.gov/1sustfish/limit6/rmpfinal.htm .

FOR FURTHER INFORMATION CONTACT: Susan Bishop, NMFS, Northwest Region, 206/526-4587, or e-mail: susan.bishop@noaa.gov.

SUPPLEMENTARY INFORMATION:

Background

The Puget Sound chinook Evolutionarily Significant Unit (ESU) was listed as threatened under the ESA in March 1999 (64 FR 14308). The ESU encompasses all naturally spawned spring-, summer-, and fall-runs of chinook salmon in the Puget Sound region from the North Fork Nooksack River to the Elwha River on the Olympic Peninsula. This ESU is located in portions of Clallam, Island, King, Kitsap, Jefferson, Mason, Pierce, San Juan, Skagit, Snohomish, and Whatcom Counties in Washington state. Puget Sound chinook have a complex life history, migrating from their natal streams throughout Puget Sound to the Pacific Ocean where they generally spend 1 to 3 years before returning to their natal streams, primarily as 3 and 4 year old adults. In their ocean migration, they travel north along the west coast into Canadian, and at times as far north as Alaskan, waters. In doing so, they are caught in a broad range of fisheries which are managed by an array of agencies, bodies and governments including the U.S. Department of Commerce, States of Washington, Oregon, and Alaska, over 20 Native American tribal jurisdictions, the North Pacific Fisheries Management Council, the Pacific Fisheries Management Council, and the Pacific Salmon Commission.

Since the listing, NMFS has evaluated the impact of some fisheries affecting listed Puget Sound chinook in compliance with section 7 of the ESA and also evaluated the 2001 RMP for Puget Sound chinook under the 4(d) Rule Limit 6. The Washington Department of Fish and Wildlife (WDFW) and the Puget Sound Treaty Tribes (co-managers) are jointly developing another RMP intended to take effect when the current RMP expires in April 2003. It will encompass commercial, recreational, ceremonial, and subsistence salmon fisheries potentially affecting the listed Puget Sound Chinook ESU within the marine and freshwater areas of Puget Sound, from the entrance of the Strait of Juan de Fuca inward, including fisheries under the jurisdiction of the U.S. Fraser Panel. However, as with the current RMP, harvest objectives specified in the RMP will account for fisheries-related mortality of Puget Sound chinook throughout its migratory range from Oregon and Washington to Southeast Alaska. The RMP will also include implementation, monitoring, and evaluation procedures designed to ensure fisheries are consistent with the RMP’s objectives. Under the ESA 4(d) Rule Limit 6 NMFS must make a determination that the RMP, as proposed and implemented by the Puget Sound Treaty Tribes and State of Washington, does not appreciably reduce the likelihood of survival and recovery of Puget Sound chinook while providing for fishing opportunities and the exercise of federally protected treaty fishing rights, as implemented and enforced within the continuing jurisdiction of U.S. v. Washington.

NMFS will conduct an environmental review of the RMP and prepare an EIS. The environmental review will analyze the proposed action, the proposed RMP, as well as a full range of reasonable alternatives and the associated impacts of each. NMFS is currently developing alternatives for analysis. In addition to the No Action Alternative (no authorized take of listed Puget Sound chinook within the Strait of Juan de Fuca and Puget Sound area), the alternatives could include at least the following: (1) a harvest regime based on escapement goal management and (2) an alternative that combines escapement goal management at the individual population level with terminal fisheries.

Authority

The environmental review of this project will be conducted in accordance with requirements of the National Environmental Policy Act of 1969, National Environmental Policy Act Regulations (40 CFR 1500-1508), other appropriate Federal laws and regulations, and policies and procedures of NOAA for compliance with those regulations.

Special Accommodations

Requests for sign language interpretation or other auxiliary aids should be directed to Susan Bishop (206/526-4587, or email: susan.bishop@noaa.gov) at least 5 days before the meeting date.

Dated: August 2, 2002.
Susan L. Pultz,
Acting Chief, Endangered Species Division, Office of Protected Resources, National Marine Fisheries Service.

[FR Doc. 02-20092 Filed 8-7-02; 8:45 am]

BILLING CODE 3510-22-S